DEPARTMENT OF COMMERCE

Economic Development Administration

[Docket No. 000515144-1101-02]

RIN: 0610-ZA

National Technical Assistance, Training, Research, and Evaluation—Request for Grant Proposals

AGENCY: Economic Development Administration (EDA), Department of Commerce (DoC).

ACTION: Request for Grant Proposals (RFP) Upon Availability of Funds.

SUMMARY: As part of its mission to assist economically distressed areas, EDA is soliciting proposals to (1) evaluate EDA's Economic Adjustment Program, (2) review the literature and practical experience regarding issues of critical importance to economic development practitioners nationally, (3) identify the location of and economic development problems facing communities with significant Asian American and Pacific Islander populations, and (4) disseminate economic development information to practitioners serving economically distressed urban areas. EDA issues this Notice to describe the conditions under which applications for these projects will be accepted and selected for funding. Projects will be funded if acceptable proposals are received.

DATES: Prospective applicants are advised that EDA will conduct a pre-proposal conference on June 6, 2001, at 2:00 p.m. EDT in the Department of Commerce, Herbert C. Hoover Building, 1401 Constitution Avenue, NW, Washington, DC 20230, Room 6057, at which time questions on these projects can be answered. Potential applicants are encouraged to provide written questions by June 1, 2001 (See ADDRESSES section below). Prospective applicants unable to attend this pre-proposal conference may participate by teleconference. Teleconference information may be obtained by calling (202) 482-4085 between 8:30-4:30 EDT on June 5, 2001.

Proposals for funding under this program will be accepted through June 20, 2001, at either of the addresses provided below. Proposals received after 4 p.m. EDT, on June 20, 2001, will not be considered for funding.

By July 2, 2001, EDA will notify proposers whether or not they will be given further funding consideration. Each successful proponent will be invited to submit an Application for Federal Assistance, OMB Control Number 0610-0094. Projects will be funded no later than September 30, 2001.

ADDRESSES: 1. Proposals may be mailed to: John J. McNamee, Director, Research and National Technical Assistance Division, Economic Development Administration, Room 7019, U.S. Department of Commerce, 1401 Constitution Avenue, NW, Washington, DC 20230, or Proposals may be hand-delivered to: John J. McNamee, Director, Research and National Technical Assistance Division, Economic Development Administration, Room 1874, U.S. Department of Commerce, 1401 Constitution Avenue, NW, Washington, DC 20230.

FOR FURTHER INFORMATION CONTACT: John J. McNamee (202) 482-4085; email: jmcnamee@eda.doc.gov.

SUPPLEMENTARY INFORMATION:

I. Areas of Special Interest

• Impact of EDA Economic Adjustment Program Investments

EDA invites proposals to evaluate the extent to which EDA's Economic Adjustment Program (EAP) investments achieve structural economic adjustment in the target communities and the length of time required to do so.

Background: EDA's EAP, which was established in 1974, helps communities design and implement strategies for facilitating adjustment to economic changes that are causing or threaten to cause serious structural damage to the underlying economic base. Such changes may occur suddenly or over time, and result from industrial or corporate restructuring, reduction in defense expenditures, natural disasters, depletion of natural resources, or new federal laws or requirements. EAP grants provide such communities with the critical resources necessary to organize and carry out adjustment strategies tailored to their particular economic problems and opportunities.

EDA economic adjustment assistance may fund, for example, strategic planning, technical assistance, construction of critical infrastructure, or establishment of a revolving loan fund (RLF). To date, EDA has invested approximately $2.2 billion in EAP.

The fundamental impact of an EAP investment should be the economic adjustment of the target area. Much of that impact will occur a considerable time after the investment is made. The proposed research should determine the extent to which target communities have begun (or achieved) structural economic adjustment, factors that affect the length of time needed to achieve full adjustment, and the contribution that the EAP investment made (or did not make) in stimulating or enabling positive structural economic change within a community.

In recent years EDA has funded independent evaluations of EAP's responses to Hurricane Andrew and to the Midwest Flood of 1993, both of which focused on short-term program implementation. It also funded a preliminary assessment of the impact of defense adjustment investments. An evaluation of the long-term impact of EAP RLF investments will be completed shortly. The evaluation proposed here will complement, but not duplicate, these evaluations.

Scope of Work: The successful applicant will develop a methodology for determining and evaluating the economic impact of EAP investments in achieving structural economic adjustment. In doing so, the applicant will examine such issues as whether the adjustment strategy was the appropriate one, i.e., was the underlying adjustment strategy rational, realistic, and responsive to the structural dislocation; was the most appropriate tool or mix of tools (planning, technical assistance, RLF, infrastructure) used; was the community committed to following the strategy? The research should also evaluate whether the success or failure to achieve structural economic adjustment correlates with implementation of the economic adjustment strategy, i.e., whether the strategy itself was an appropriate one, or whether the economic adjustment happened due to other factors. The applicant will conduct the evaluation using a sample group of projects. The sample should be stratified to include investments made under EDA's (a) regular EAP, (b) Defense adjustment, and (c) other special initiatives, including disaster relief. The final report must fully document the methodology used for the project. The results must be presented in up to seven briefings and/or training workshops as set forth in Section IV.C. below.

Cost: The total EDA share of the cost of this project may not exceed $300,000.

Timing: This project must be completed and the final report submitted within one year of approval of the project.

• Reviews of Economic Development Literature and Practice

EDA invites proposals to review the literature and practical experience regarding issues of critical importance to economic development practitioners nationally.

Background: One of EDA's main functions is to disseminate high-quality information about economic development policies, issues, strategies, and techniques to practitioners. EDA fulfills this function by a number of means, including newsletters, conferences, use of the Internet, and targeted research. This project will help present important and emerging theoretical issues to practitioners and policy makers.

EDA is especially interested in reviews supporting EDA's core programs and initiatives. Examples include: e-commerce, productivity enhancement through infrastructure investment, leveraging of private investment for regional economic development, and technology-led economic development. EDA, however, welcomes other topics of importance to domestic economic development. Completed reviews must be analytical and should identify important policy implications. They must be prepared for practitioners rather than an academic audience. EDA expects researchers to demonstrate familiarity with the proposed topic and ability to conduct a timely, thorough, and objective review. EDA anticipates making multiple awards, but will not make multiple awards to any individual researcher. Authors are encouraged to submit the final review paper for publication as described below.

Scope of Work: Successful applicants will: (1) Prepare a review paper that (a) describes and analyzes critically, key debates in the literature, analytical techniques of broad importance to practitioners and/or the range of experience with specific economic development strategies; (b) identifies important policy implications of the research; (c) represents original research not previously submitted for publication elsewhere; (d) is of length and quality suitable for publication in a peer-reviewed journal; and (e) is written in a style appropriate for practitioners. (2) Conduct up to three presentations as described in Section IV.C. below.

Cost: EDA may provide funding totaling up to $75,000 for all reviews funded under this RFP. The total EDA share of the cost for any single review may not exceed $20,000. Should additional funding become available, EDA may increase the total funding for this RFP. EDA anticipates that most proposals will be in the range of $10,000 to $15,000.

Timing: EDA anticipates that most reviews will take six months or less, but recognizes that this will vary with the nature of the research. All projects must be completed and the review paper must be submitted within nine months of project approval. Presentations may take place up to one year after the research paper is submitted.

• Economic Development Needs of Asian Americans and Pacific Islanders in Distressed Areas

Background: Executive Order 13125, signed on June 7, 1999, seeks to improve the quality of life for Asian Americans and Pacific Islanders (AAPI) by, among other things, increasing their participation in federal programs where they may be underserved. The U.S. Department of Commerce seeks to identify the locations of and economic development problems facing communities with significant AAPI populations. Where a community with a significant AAPI population also has a significant population of other minorities, the research should address the problems common to all minority groups in the community as well as those unique to the AAPI population.

Scope of Work: The successful applicant will (1) identify the location of distressed communities that are composed primarily of AAPI populations; (2) identify and assess the special economic development challenges these distressed AAPI communities face; (3) prepare a final report that summarizes the research findings; and (4) conduct up to three briefings and/or training workshops as set forth in Section IV.C. below.

Cost: The total EDA share of the cost of this project may not exceed $75,000.

Timing: The project should be completed and the final research report submitted within six months of project approval.

• Information Dissemination in Distressed Urban Communities

Background: As part of its ongoing mission to assist economically distressed areas, EDA supports projects that disseminate information to economic development practitioners serving America's distressed communities.

Scope of Work: The successful applicant will undertake information dissemination activities that:

• Are targeted at a national audience of economic development practitioners working in America's distressed urban communities;

• Take greater advantage of new technologies for information dissemination (Internet, videoconferencing, e-mail, etc.);

• Identify and provide information in new or emerging areas of economic development needed by practitioners serving distressed urban areas;

• Support the development and greater understanding of new economic development tools and national, state, and local programs designed to relieve urban economic distress; and

• Influence economic development outcomes by improving the quality, accessibility, and timeliness of critical information available to economic development practitioners.

Each proposal submitted must:

(1) Identify and describe the target audience and the reason(s) why the proposed information dissemination activity is necessary;

(2) Describe how the organization plans to achieve the proposed target audience penetration;

(3) Describe the types of information that will be disseminated;

(4) Justify why the proposed activity should be federally funded;

(5) Describe the economic development outcomes or activities that will be influenced by the information dissemination efforts; and

(6) For activities proposed for multiyear funding (up to three years maximum), justify the need for such funding.

Cost: A total of $125,000 is available for this project. EDA anticipates funding only one information dissemination project under this RFP.

Timing: The award made under this RFP is for one year. However, it may be eligible for multiyear funding, i.e., renewable for two additional years after the initial award is made, at the same or lower annual project cost, subject to funding availability, satisfactory performance under the initial and, if applicable, subsequent award, and at the sole discretion of EDA.

Additional Requirements: (1) The proposed project should not be primarily for the benefit of the grantee, narrowly focused organizations, or localized geographic areas.

(2) The grantee shall participate in up to three EDA conferences each year. Locations and dates of the conferences attended shall be at EDA's sole discretion.

II. How To Apply

A. Eligible Applicants

Eligible applicants are as follows: Institutions of higher education; consortiums of institutions of higher education; public or private nonprofit organizations or associations acting in cooperation with officials of a political subdivision of a state, for-profit organizations, and private individuals; areas meeting requirements under 13 CFR 301.2; Economic Development Districts; Indian tribes; consortiums of Indian tribes; states, cities, or other political subdivisions of a state; consortiums of political subdivisions of states.

B. Proposal Submission Procedures

Each proposal submitted must include:

(1) A description of how the researcher(s) intend(s) to carry out the scope of work (not to exceed 10 pages in length);

(2) A proposed budget and accompanying explanation;

(3) Resumes/qualifications of key staff (not to exceed two pages per individual, with an additional two pages allowed for a single summary description of all organizations/consultants named in the proposal); and

(4) A proposed schedule for completion of the project.

EDA will not accept proposals submitted by FAX. Proposals received after 4:00 p.m. EDT on June 20, 2001, will not be considered.

III. Selection Process and Evaluation Criteria

All proposals must meet EDA's statutory and regulatory requirements. Proposals will receive initial review by EDA to assure that they meet all requirements of this RFP and applicable provisions of 13 CFR Chapter III, including, for example, eligibility and relevance to the specified project as described herein. EDA's general selection process and criteria are set out in 13 CFR 304.1, 304.2, and 307.10. Proposals that do not meet all items required or that exceed the page limitations of Section II.B. of this RFP, will be considered nonresponsive. Proposals that do meet these requirements will be evaluated by a review panel comprised of at least three members all of whom will be full-time federal employees. The panel will carry out its selection process using the following criteria:

(1) The quality of a proposal's response to the Scope of Work and other requirements described in Section I above;

(2) The ability of the prospective applicant to successfully carry out the proposed activities; and

(3) Cost to the federal government.

If a proposal is selected, EDA will provide the proponent with an Application for Federal Assistance (OMB Control Number 0610-0094). Notwithstanding any other provision of law, no person is required to respond to, nor shall a person be subject to, a penalty for failure to comply with a collection of information subject to the requirements of the Paperwork Reduction Act, unless that collection of information displays a currently valid OMB Control Number.

IV. Additional Information

A. Authority

The Public Works and Economic Development Act of 1965, as amended (Pub. L. 89-136, 42 U.S.C. 3121 et seq.), including the comprehensive amendments by the Economic Development Administration Reform Act of 1998 (Pub. L. 105-393) (PWEDA) authorizes EDA to make grants for training, research, and technical assistance, including grants for program evaluation and project impact analyses, that would be useful in alleviating or preventing conditions of excessive unemployment or underemployment (42 U.S.C. 3147, Section 207). Public Law 106-553 makes funds available for this program.

B. Catalog of Federal Domestic Assistance

11.303 Economic Development Technical Assistance.

11.312 Research and Evaluation.

C. Program Description

For a description of this program see PWEDA and 13 CFR Chapter III, § 307 Subpart C.

EDA assistance is focused on areas experiencing significant economic distress, defined principally as per capita income of 80 percent or less of the national average; or an unemployment rate that is, for the most recent 24-month period for which data are available, at least one percent greater than the national average; or a special need, as determined by EDA.

Costs

Ordinarily, the applicant is expected to provide a 50% non-federal share of project costs. However, EDA may reduce or waive the required 50% matching share of the total project costs, provided the applicant can demonstrate: (1) The project is not feasible without and the project merits such a reduction or waiver, or (2) the project is addressing major causes of distress in the area serviced and requires the unique characteristics of the applicant, which will not participate if it must provide all or part of a 50% non-federal share, or (3) the project is for the benefit of local, state, regional, or national economic development efforts, and will be of no or only incidental benefit to the recipient, or (4) the requirements of 13 CFR § 301.4(b) (table) are satisfied (see 13 CFR § 307.11).

Briefings and Reports

Three of the projects described in this RFP include a requirement that the successful applicant(s) conduct briefings and/or training workshops for individuals and organizations interested in the project results. The completion dates set forth above are only for completion of the project and submission of the written report. Briefings/workshops will take place no later than one year after submission of the final report. Locations and dates of the briefings/workshops are at EDA's sole discretion. Usually these consist of at least one briefing in Washington, DC, with the other briefings/workshops held in conjunction with one or more of EDA's regional conferences.

Unless otherwise noted, each award includes a requirement that the applicant submit an electronic version and 500 hard copies of the final report in formats acceptable to EDA.

D. Other Requirements

See EDA's Notice of Funding Availability for FY 2001 (66 FR 15001ff, 3/14/2001) for additional information and requirements (available on the Internet at http://www.doc.gov/eda/html/1d_fund_prog.htm, under the heading “Notices of Funding Availability.”

This notice has been determined to be not significant for purposes of Executive Order 12866.

Dated: May 15, 2001.
David L. Temple, Jr.,
Deputy Assistant Secretary for Program Operations.

[FR Doc. 01-12671 Filed 5-18-01; 8:45am]

BILLING CODE 3510-24-U